DEPARTMENT OF COMMERCE

International Trade Administration

[A-570-892]

Carbazole Violet Pigment 23 from the People's Republic of China: Extension of Time Limit for Preliminary Results of Antidumping Duty Administrative Review

AGENCY: Import Administration, International Trade Administration, Department of Commerce.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION:

Background

On December 1, 2008, the Department of Commerce (the Department) published in the Federal Register its notice of opportunity to request an administrative review of the antidumping duty order on carbazole violet pigment 23 (CVP 23) from the People's Republic of China (PRC). See Antidumping or Countervailing Duty Order, Finding, or Suspended Investigation; Opportunity To Request Administrative Review, 73 FR 72764 (December 1, 2008). In response, on December 30, 2008, Trust Chem Co., Ltd. (Trust Chem) requested an administrative review of the antidumping duty order on CVP 23 from the PRC for the period December 1, 2007 through November 30, 2008. On February 2, 2009, the Department published a notice of initiation of this administrative review. See Initiation of Antidumping and Countervailing Duty Administrative Reviews and Requests for Revocation in Part, 74 FR 5821 (February 2, 2009). The current deadline for the preliminary results of this review is September 2, 2009.

Extension of Time Limit for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the 245-day time limit for the preliminary results to a maximum of 365 days.

The Department has determined it is not practicable to complete this review within the statutory time limit because we require additional time to develop the record fully and analyze information related to Trust Chem's U.S. sales and the market economy purchases made by Nantong Longding Chemical Co. Ltd., the manufacturer which sold CVP 23 to Trust Chem. For these reasons, it is impracticable to complete the preliminary results of this administrative review within the originally-specified time limit. Accordingly, the Department is extending the time limit for completion of the preliminary results of this administrative review until no later than December 22, 2009, which is 356 days from the last day of the anniversary month. We intend to issue the final results no later than 120 days after publication of the preliminary results notice.

This notice is issued and published in accordance with sections 751(a)(3)(A) and 777(i)(1) of the Act.

Dated: July 30, 2009.
John M. Andersen,
Acting Deputy Assistant Secretary for Antidumping and Countervailing Duty Operations.

[FR Doc. E9-18957 Filed 8-6-09; 8:45 am]

BILLING CODE 3510-DS-S